DEPARTMENT OF TRANSPORTATION

National Highway Traffic Safety Administration

[Docket No. NHTSA-2004-17903; Notice 1]

Kumho Tire Co., Inc., Receipt of Petition for Decision of Inconsequential Noncompliance

Kumho Tire Co., Inc. (Kumho) has determined that certain tires it produced in 2003 and 2004 do not comply with S4.3(d) and S4.3(e) of 49 CFR 571.109, Federal Motor Vehicle Safety Standard (FMVSS) No. 109, “New pneumatic tires.” Kumho has filed an appropriate report pursuant to 49 CFR part 573, “Defect and Noncompliance Reports.”

Pursuant to 49 U.S.C. 30118(d) and 30120(h), Kumho has petitioned for an exemption from the notification and remedy requirements of 49 U.S.C. Chapter 301 on the basis that this noncompliance is inconsequential to motor vehicle safety.

This notice of receipt of Kumho's petition is published under 49 U.S.C. 30118 and 30120 and does not represent any agency decision or other exercise of judgment concerning the merits of the petition.

A total of approximately 2656 tires are involved. These include 324 size 255/50R17 tires and 2332 size 255/45R17 tires. The tires are marked “Tread: Rayon 2 + Steel 2 + Nylon 2, Sidewall: Rayon 2,” when the correct stamping would be “Tread: Polyester 2 + Steel 2 + Nylon 2, Sidewall: Polyester 2.” Paragraph S4.3 of FMVSS No. 109 requires “each tire shall have permanently molded into or onto both sidewalls * * * (d) The generic name of each cord material used in the plies * * * of the tire; and (e) Actual number of plies in the sidewall, and the actual number of plies in the tread area if different.”

Kumho states that it uses rayon and polyester body ply construction to meet the preferences of the North American and European markets, and that rayon is popular in the European market while polyester is more popular in the North American market. Kumho explains that for sizes sold in both markets, either material may be used, and the two sizes which are the subject of this petition have North American construction and European stamping.

Kumho states that the tires meet or exceed all performance requirements of FMVSS No. 109 and will have no impact on the operational performance or safety of vehicles on which these tires are mounted. Therefore, Kumho believes that the noncompliance is inconsequential to motor vehicle safety and that no corrective action is warranted.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 am to 5 pm except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 24, 2004.

Authority: (49 U.S.C. 30118, 30120: delegations of authority at 49 CFR 1.50 and 501.)

Issued on: May 19, 2004.
Kenneth N. Weinstein,
Associate Administrator for Enforcement.

[FR Doc. 04-11791 Filed 5-24-04; 8:45 am]

BILLING CODE 4910-59-P